DEPARTMENT OF AGRICULTURE

Forest Service

Big Horn County Resource Advisory Committee

AGENCY: Forest Service, USDA.

ACTION: Notice of meeting.

SUMMARY: The Big Horn County Resource Advisory Committee will meet in Greybull, Wyoming. The committee is authorized under the Secure Rural Schools and Community Self-Determination Act (Pub. L. 110-343) (the Act) and operates in compliance with the Federal Advisory Committee Act. The purpose of the committee is to improve collaborative relationships and to provide advice and recommendations to the Forest Service concerning projects and funding consistent with the Ttitle II of the Act. The meeting is open to the public. The purpose of the meeting is to report on monitoring of projects as well as to validate recommended projects for 2013.

DATES: The meeting will be held July 15, 2013 at 3:00 p.m.

ADDRESSES: The meeting will be held at Big Horn County Weed and Pest Building, 4782 Highway 310, Greybull, Wyoming. Written comments may be submitted as described under Supplementary Information. All comments, including names and addresses when provided, are placed in the record and are available for public inspection and copying. The public may inspect comments received at Bighorn National Forest, 2013 Eastside 2nd Street, Sheridan, Wyoming 82801. Please call ahead to (307) 674-2600 to facilitate entry into the building to view comments.

FOR FURTHER INFORMATION CONTACT: Susan Douglas, Public Affairs Specialist, (307) 674-2658, spdouglas@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Introductions, (2) Project monitoring information, (3) Public Comment, (4) Recommended project validation. Anyone who would like to bring related matters to the attention of the committee may file written statements with the committee staff before or after the meeting. The agenda will include time for people to make oral statements of three minutes or less. Individuals wishing to make an oral statement should request in writing by June 15, 2013 to be scheduled on the agenda. Written comments and requests for time for oral comments must be sent to Susan Douglas, 2013 Eastside 2nd Street, Sheridan, Wyoming 82801 or by email to spdouglas@fs.fed.us or via facsimile to (307) 674-2668. A summary of the meeting will be posted at http://www.fs.usda.gov/main/bighorn/home within 21 days of the meeting.

Meeting Accommodations: If you are a person requiring reasonable accommodation, please make requests in advance for sign language interpreting, assistive listening devices or other reasonable accommodation for access to the facility for proceedings by contacting the person listed under For Further Information Contact. All reasonable accommodation requests are managed on a case by case basis.

Dated: May 29, 2013.
William T. Bass,
Forest Supervisor.

[FR Doc. 2013-13132 Filed 6-3-13; 8:45 am]

BILLING CODE 3410-11-P